DEPARTMENT OF TRANSPORTATION

Federal Aviation Administration

14 CFR Part 71

[Docket No. FAA-2015-3835; Airspace Docket No. 14-ASW-13]

RIN 2120-AA66

Amendment of Air Traffic Service (ATS) Routes; Southwest Oklahoma

AGENCY: Federal Aviation Administration (FAA), DOT.

ACTION: Final rule.

SUMMARY: This action modifies 3 VHF Omnidirectional Range (VOR) Federal airways (V-140, V-272, and V-440) in the vicinity of Sayre, OK. The FAA is taking this action due to the scheduled decommissioning of the Sayre, OK, VOR/Tactical Air Navigation (VORTAC) facility that provides navigation guidance for a portion of the airways listed. This action enhances the enroute structure within the National Airspace System.

DATES: Effective date 0901 UTC, April 27, 2017. The Director of the Federal Register approves this incorporation by reference action under title 1, Code of Federal Regulations, part 51, subject to the annual revision of FAA, Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would amend the route structure as required to preserve the safe and efficient flow of air traffic in the vicinity of Sayre, OK.

History

On October 20, 2015, the FAA published in the Federal Register a notice of proposed rulemaking (NPRM) (80 FR 63473), Docket No. FAA-2015-3835, to amend VOR Federal airways V-140, V-272, and V-440 due to the scheduled decommissioning of the Sayre VORTAC. Interested parties were invited to participate in this rulemaking effort by submitting written comments on the proposal. One comment was received.

Discussion of Comments

The comment received was in regard to navigation aid signal reception coverage along the proposed realigned airway segments being sufficient enough for navigation. The commenter noted that low altitude VORs, like the Sayre and Burns Flat, OK, VORTAC facilities were only certified to 40 nautical miles (NM). He also stated that the distance of V-440 between the Sayre and Panhandle, TX, VORTACs was 102 NM and had already stretched the approved reception of the two VORs from 80 NM to 102 NM. The commenter offered that moving airway operations from the Sayre VORTAC to the Burns Flat VORTAC would only increase the reception distance further and possibly cause loss of navigation reception while on the airway. He recommended the FAA test the reception along the new proposed airway and confirm the airway amendment would have sufficient navigation reception.

In response to the comment received, the FAA accomplished an extended service volume (ESV) analysis of the VORTACs supporting all the proposed amendments and determined that the navigation aid signal reception along the proposed VOR Federal airway route segments fell within historical signal reception coverages for the area. FAA flight check evaluation of the amended route segments confirmed there is satisfactory navigation aid signal coverage along the new routes.

VOR Federal airways are published in paragraph 6010 of FAA Order 7400.11A dated August 3, 2016, and effective September 15, 2016, which is incorporated by reference in 14 CFR 71.1. The VOR Federal airways listed in this document will be subsequently published in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

The FAA is amending Title 14, Code of Federal Regulations (14 CFR) part 71 to modify three VOR Federal airways (V-140, V-272, and V-440) in the vicinity of Sayre, OK, due to the scheduled decommissioning of the Sayre VORTAC. The route modifications are outlined below.

V-140: V-140 extends from the Panhandle VORTAC to the Casanova, VA, VORTAC. The route segment between the Panhandle and Kingfisher, OK, VORTACs is amended to proceed over the Burns Flat VORTAC.

V-272: V-272 extends from the Dalhart, TX, VORTAC to the Fort Smith, AR, VORTAC. The route segment between the Borger and Will Rogers VORTACs is amended to proceed over the Burns Flat VORTAC.

V-440: V-440 extends from the Panhandle VORTAC to the Will Rogers VORTAC. The route segment between the BRISC and CARFF fixes is amended to proceed over the Burns Flat VORTAC. Additionally, the intersecting NAVAID radial information used to describe the BRISC fix is updated using the Panhandle VORTAC 070°(T) and Burns Flat VORTAC 288°(T) radials and the intersecting NAVAID radial information used to describe the CARFF fix is updated using the Burns Flat VORTAC 103°(T) and Will Rogers VORTAC 248°(T) radials.

All radials in the regulatory text route descriptions below are stated in True degrees.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying three VOR Federal airways near Sayre, OK qualifies for categorical exclusion under the National Environmental Policy Act (40 CFR part 1500) and in accordance with FAA Order 1050.1F, Environmental Impacts: Policies and Procedures, paragraph 5-6.5a which categorically excludes from further environmental review rulemaking actions that designate or modify classes of airspace areas, airways, routes, and reporting points (see 14 CFR part 71, Designation of Class A, B, C, D, and E Airspace Areas; Air Traffic Service Routes; and Reporting Points). Therefore, this action is not expected to cause any potentially significant environmental impacts. Also in accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6010(a) Domestic VOR Federal Airways

* * * * *

V-140 [Amended]

From Panhandle, TX; Burns Flat, OK; Kingfisher, OK; INT Kingfisher 072° and Tulsa, OK, 261° radials; Tulsa; Razorback, AR; Harrison, AR; Walnut Ridge, AR; Dyersburg, TN; Nashville, TN; Livingston, TN; London, KY; Hazard, KY; Bluefield, WV; INT Bluefield 071° and Montebello, VA, 250° radials; Montebello; to Casanova, VA.

* * * * *

V-272 [Amended]

From Dalhart, TX; Borger, TX; Burns Flat, OK; Will Rogers, OK; INT Will Rogers 113° and McAlester, OK, 286° radials; McAlester; to Fort Smith, AR.

* * * * *

V-440 [Amended]

From Panhandle, TX; INT Panhandle 070° and Burns Flat, OK, 288° radials; Burns Flat; INT Burns Flat 103° and Will Rogers, OK, 248° radials; to Will Rogers.

* * * * *

Issued in Washington, DC, on February 16, 2017.
Leslie M. Swann,
Acting Manager, Airspace Policy Group.

[FR Doc. 2017-03542 Filed 2-24-17; 8:45 am]

BILLING CODE 4910-13-P